DEPARTMENT OF TRANSPORTATION

Surface Transportation Board

[STB Finance Docket No. 34048]

Reading Blue Mountain and Northern Railroad Company—Lease and Operation Exemption—Norfolk Southern Railway Company and Pennsylvania Lines, LLC

Reading Blue Mountain and Northern Railroad Company (RBMN), a Class III rail carrier, has filed a verified notice of exemption under 49 CFR 1150.41 to sublease and operate approximately 1.3 miles of rail line currently owned by Pennsylvania Lines LLC and currently operated by Norfolk Southern Railway Company (NSR). The rail line extends between milepost 212.2 and a point 150 feet west of the western control point for Robinson's Crossing (milepost 213.5±) near Mehoopany, in Wyoming County, PA.¹

¹ RBMN will replace NSR as the operator on the line.

Because RBMN's projected annual revenues will exceed $5 million, RBMN certified to the Board on July 17, 2001, that, on May 25, 2001, it had posted the required notice of intent to undertake the proposed transaction at the workplace of the employees on the affected lines and had served a copy of the notice of intent on the national offices of the labor union with employees on the rail line. See 49 CFR 1150.42(e).² RBMN stated in its verified notice that the transaction was scheduled to be consummated on or after July 25, 2001.³

² The National Office of the United Transportation Union (UTU) apparently had not received a copy of RBMN's notice of intent in May. RBMN has subsequently provided that notice of intent to the UTU and certified its compliance on July 25, 2001.

³ Due to the timing of RBMN's certification to the Board, consummation under these circumstances would have had to be delayed until September 23, 2001 (60 days after RBMN's certification to the Board that it had complied with the Board's rule at 49 CFR 1150.42(e)). In a decision in this proceeding served on August 1, 2001, however, the Board granted the request by RBMN for waiver of the remainder of the 60-day period, as measured from the certification date to the Board, to allow consummation to occur as early as August 1, 2001.

If the notice contains false or misleading information, the exemption is void ab initio. Petitions to revoke the exemption under 49 U.S.C. 10502(d) may be filed at any time. The filing of a petition to revoke does not automatically stay the transaction.

An original and 10 copies of all pleadings, referring to STB Finance Docket No. 34048, must be filed with the Surface Transportation Board, Office of the Secretary, Case Control Unit, 1925 K Street, NW., Washington, DC 20423-0001. In addition, a copy of each pleading must be served on Eric M. Hocky, Esq., Gollatz, Griffin & Ewing, P.C., 213 West Miner Street, P. O. Box 796, West Chester, PA 19381-0796.

Board decisions and notices are available on our website at www.stb.dot.gov.

Decided: August 6, 2001.
By the Board, David M. Konschnik, Director, Office of Proceedings.
Vernon A. Williams,
Secretary.

[FR Doc. 01-20102 Filed 8-10-01; 8:45 am]

BILLING CODE 4915-00-P